DEPARTMENT OF THE INTERIOR

Bureau of Land Management

[LLNMA01000.L14300000.FR0000; NMNM 109078]

Notice of Realty Action: Direct Sale of Public Lands in Santa Fe County, NM

AGENCY: Bureau of Land Management, Interior.

ACTION: Notice of Realty Action.

SUMMARY: The Bureau of Land Management (BLM) has determined that 2.96 acres located in Santa Fe County, New Mexico, is suitable for direct sale to Edward Black pursuant to the Act of December 22, 1928, as amended, and an Interior Board of Land Appeals Settlement Agreement for the amount of $10,000. The sale is to resolve a class 1 Color-of-Title claim and will not be offered for sale until 60 days after the publication of this Notice. This parcel is identified for disposal in the BLM Taos Resource Management Plan, dated October 1988, as amended.

DATES: Interested parties may submit written comments to the BLM at the address stated below. To ensure consideration in the environmental analysis of the proposed sale, comments must be received by the BLM no later than November 15, 2010.

ADDRESSES: Written comments regarding the proposed sale should be addressed to the BLM Field Manager, Rio Puerco Field Office, 435 Montaño Road, NE., Albuquerque, New Mexico 87107.

FOR FURTHER INFORMATION CONTACT: Arlene Salazar, Realty Specialist, at the address above or by telephone at (505) 761-8772.

SUPPLEMENTARY INFORMATION:

New Mexico Principal Meridian

T. 12 N., R. 7 E.,

Fractional sec. 29, lot 10.

The area described contains 2.96 acres, more or less, in Santa Fe County.

Conveying title to the affected public land is consistent with BLM land-use planning. The land is not needed for other Federal purposes.

The patent, if and when issued, would be subject to the following terms, conditions, and reservations:

1. All minerals, including coal, will be reserved to the United States with the right to prospect for, mine, and remove the minerals;

2. A right-of-way for ditches and canals constructed by the authority of the United States, Act of August 30, 1890 (43 U.S.C. 945);

3. All mineral deposits in the land so patented, and to it, or persons authorized by it, the right to prospect for, mine and remove such deposits from the same under applicable law.

4. All geothermal steam and associated geothermal resources as to the land so patented, and to it, or persons authorized by it, the right to prospect for, mine and remove such resources, upon compliance with the conditions and subject to the provisions and limitations of the Act of December 24, 1970, as amended (30 U.S.C. 1002);

5. Subject to those rights for a road easement granted to the United States of America for the full use as a road by the United States of America and its assigns, licenses, and permittees including the right of access and use for and by the people of the United States of America generally to lands owned, administered, or controlled by the United States of America, by right-of-way to the BLM, No. NMNM-121904, pursuant to the Act of October 21, 1976 (43 U.S.C. 1761), as defined in the BLM Plat entitled “Dependent Resurvey and Survey,” approved on April 24, 2008, by Jay M. Innes, Acting Chief, Cadastral Surveyor for New Mexico; and

6. An appropriate indemnification clause protecting the United States from claims arising out of the patentee's use, occupancy, or operations on the patented lands. Additional detailed information concerning this Notice of Realty Action, including environmental documents, is available for review at the address above.

On September 30, 2010, the land described above will be segregated from all other forms of appropriation under the public land laws, including the mining laws, except for conveyance under the Federal Land and Policy Management Act and leasing under the mineral leasing laws. Until completion of the sale, the BLM is no longer accepting land use applications affecting the identified public land, except applications for the amendment of previously filed rights-of-way applications or existing authorizations to increase the term of the grants in accordance with 43 CFR 2807.15 and 2886.15. The segregative effect will end upon issuance of a patent or other document of conveyance, publication in the Federal Register of a termination of the segregation, or 2 years from the date of publication of this Notice, whichever occurs first, unless extended by the BLM State Director in accordance with 43 CFR 2711.1-2(d) prior to the termination date.

Public comments regarding the proposed sale may be submitted in writing to the attention of the BLM Rio Puerco—Manager (see ADDRESSES above) on or before November 15, 2010. Comments received in electronic form, such as e-mail or facsimile, will not be considered. Any adverse comments regarding the proposed sale will be reviewed by the BLM State Director or other authorized official of the Department, who may sustain, vacate, or modify this realty action in whole or in part. In the absence of timely filed objections, this realty action will become the final determination of the Department of the Interior.

Before including your address, phone number, e-mail address, or other personal identifying information in your comment, be advised that your entire comment—including your personal identifying information—may be made publicly available at any time. While you can ask us in your comment to withhold from public review your personal identifying information, we cannot guarantee that we will be able to do so.

Authority: 43 CFR 2711.1-2(a) and (c).

Thomas E. Gow,
Field Manager, Rio Puerco Field Office.

[FR Doc. 2010-24600 Filed 9-29-10; 8:45 am]

BILLING CODE 4310-AG-P